DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 131.227 acres of airport land from aeronautical use to non-aeronautical use and to authorize the sale of airport property located at Indianapolis International Airport, Indianapolis, Indiana. The aforementioned land is not needed for aeronautical use.

The 131.227 acres is located along High School Road between Sam Jones Expressway to the south and the CSX railroad to the north. The land formerly served as parking areas for Indianapolis International Airport. The proposed use of the property is to be used for corporate development.

DATES: Comments must be received on or before December 26, 2018.

ADDRESSES: Documents are available for review by appointment at the FAA Chicago Airports District Office, Melanie Myers, Program Manager, 2300 East Devon Avenue, Des Plaines, Illinois, 60018. Telephone: (847) 294-7525/Fax: (847) 294-7046 and Eric Anderson, Director of Properties, Indianapolis Airport Authority, 7800 Col. H. Weir Cook Memorial Drive, Indianapolis, IN 46241 Telephone: (317) 487-5135.

Written comments on the Sponsor's request must be delivered or mailed to: Melanie Myers, Program Manager, Federal Aviation Administration, Chicago Airports District Office, 2300 East Devon Avenue, Des Plaines, Illinois, 60018. Telephone: (847) 294-7525/Fax: (847) 294-7046.

FOR FURTHER INFORMATION CONTACT: Melanie Myers, Program Manager, Federal Aviation Administration, Chicago Airports District Office, 2300 East Devon Avenue, Des Plaines, Illinois, 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The land consists of 176 original airport acquired parcels. The parcels were acquired under grants 8-18-0038-01, 8-18-0038-02, 6-18-0038-06 and local funding. There are no impacts to the airport by allowing the Indianapolis Airport Authority to dispose of the property. The land is not needed for future aeronautical development.

The disposition of proceeds from the sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

West Main Parcel

Part of the Northeast Quarter of Section 23, Township 15 North, Range 2 East located in Marion County, Indiana, more particularly described as follows:

Commencing at the Northeast corner (IAA Monument 24-E) of the Northeast Quarter of Section 23, Township 15 North, Range 2 East; thence South 00 degrees 02 minutes 00 seconds West (all bearings are based on the Indiana State Plane Coordinate system, East Zone (NAD83) along the east line of said Northeast Quarter a distance of 1967.84 feet; thence South 58 degrees 11 minutes 49 seconds West 129.48 feet to the Point of Beginning; thence South 58 degrees 11 minutes 49 seconds West 644.13 feet; thence North 31 degrees 08 minutes 51 seconds West 590.73 feet; thence North 44 degrees 25 minutes 44 seconds East 1,140.00 feet; thence South 07 degrees 01 minutes 40 seconds East 225.00 feet; thence South 19 degrees 46 minutes 32 seconds East 215.00 feet; thence South 00 degrees 02 minutes 00 seconds West 377.54 feet; thence South 45 degrees 02 minutes 00 seconds West 63.64 feet; thence South 00 degrees 02 minutes 00 seconds West 132.07 feet to the POINT OF BEGINNING. Containing 14.724 acres, more or less.

East Main Parcel

Part of the Northwest Quarter of Section 24 and part of the Southwest Quarter of Section 13, Township 15 North, Range 2 East, in Marion County, Indiana, more particularly described as follows:

Commencing at the Northwest corner (IAA Monument 24-E) of the Northwest Quarter of said Section 24; thence North 88 degrees 49 minutes 54 seconds East (all bearings are based on the Indiana State Plane Coordinate System East Zone, NAD83) along the North line of said Northwest Quarter 65.01 feet to the Point of Beginning; thence North 00 degrees 22 minutes 02 seconds East parallel with the West line of the Southwest Quarter of said Section 13 a distance of 45.02 feet; thence North 88 degrees 49 minutes 54 seconds East parallel with the North line of the Northwest Quarter of said Section 24 a distance of 1281.85 feet to the West right of way of Interstate 465 per INDOT plans for Project no. IM-465-4(355); thence along said west right of way South 00 degrees 14 minutes 24 seconds West 45.01 feet to the North line of the Northwest Quarter of said Section 24; thence continue along said west right of way South 00 degrees 14 minutes 24 seconds West 621.28 feet; thence leaving said west right of way South 89 degrees 49 minutes 52 seconds West 429.49 feet; thence South 00 degrees 01 minutes 24 seconds East 914.34 feet returning to the western right of way of I-465; thence South 38 degrees 32 minutes 18 seconds West along said western right of way 471.64 feet to the North right of way of Sam Jones Expressway (formerly Airport Expressway) as described in a Finding and Judgment, Cause No. S61-1215 (the following nine courses are along said North right of way); (1) thence South 41 degrees 16 minutes 20 seconds West 12.90 feet; (2) thence South 46 degrees 12 minutes 20 seconds West 19.90 feet; (3) thence South 52 degrees 12 minutes 20 seconds West 19.90 feet; (4) thence South 58 degrees 12 minutes 20 seconds West 19.90 feet; (5) thence South 64 degrees 12 minutes 20 seconds West 19.90 feet; (6) thence South 70 degrees 12 minutes 20 seconds West 19.90 feet; (7) thence South 74 degrees 24 minutes 20 seconds West 8.00 feet; (8) thence South 89 degrees 29 minutes 20 seconds West 409.80 feet; (9) thence North 43 degrees 38 minutes 40 seconds West 68.92 feet to a point located 65 feet east of the West line of the Northwest Quarter of said Section 24; thence North 00 degrees 02 minutes 00 seconds East parallel with said West line 1897.13 feet to the POINT OF BEGINNING. Containing 43.799 acres, more or less.

North Option Parcel

Part of Southwest Quarter of Section 13, Township 15 North, Rang 2 East, in Marion County, Indiana, more particularly described as follows:

Commencing at the Northwest corner (IAA Monument 13-0) of the Southwest Quarter of said Section 13; thence South 00 degrees 22 minutes 02 seconds West (all bearings are based on the Indiana State Plane Coordinate system, East Zone (NAD83)) along the West line of said Southwest Quarter 229.01 feet to the Southwesterly extension of the Southern right of way line of the CSX Railroad; thence North 72 degrees 46 minutes 12 seconds East along said Southwesterly extension 96.10 feet to the East right of way of High School Road per a right of grant to the City of Indianapolis recorded as Instrument number 1998-0020370 and the Point of Beginning; thence continuing North 72 degrees 46 minutes 12 seconds East along said Southwesterly extension and the Southern right of way line of said CSX Railroad 1315.12 feet to the West right of way line of Interstate 465 per INDOT plans for Project No. IM-465-4(355); thence South 00 degrees 14 minutes 24 seconds West along said West right of way line 113.82 feet to the Northern right of way of Minnesota Street per Indianapolis Department of Transportation plans for Project No. DOT (1.17B.36) ST-30-031 (Phase 1 and 2) and a non-tangent curve to the left having a radius of 445.00 feet, the radius point of which bears South 06 degrees 51 minutes 05 seconds East (the following five courses are along said Northern right of way); (1) thence Westerly and Southerly along said curve 643.76 feet to a point which bears North 89 degree 44 minutes 20 seconds West from said radius point; (2) thence South 00 degrees 15 minutes 40 seconds West 577.20 feet to a tangent curve to the right having a radius of 265.00 feet, the radius point of which bears North 89 degrees 44 minutes 20 seconds West; (3) thence Southerly and Westerly along said curve 416.95 feet to a point which bears South 00 degrees 24 minutes 36 seconds West from said radius point; (4) thence North 89 degrees 35 minutes 24 seconds West 622.19 feet (5) thence North 44 degrees 39 minutes 00 seconds West 35.39 feet to the East right of way of High School Road per said Indianapolis Department of Transportation plans (the following two courses are along said East right of way); (1) thence North 00 degrees 22 minutes 02 seconds East 89.43 feet (2) thence North 89 degrees 37 minutes 58 seconds West 15.00 feet to the East right of way of High School Road per Indiana State Highway plans for Project No. 619 (the following five courses are along said East right of way); (1) thence North 00 degrees 22 minutes 02 seconds East 241.30 feet; (2) thence South 89 degrees 37 minutes 58 seconds East 5.00 feet; (3) thence North 00 degrees 22 minutes 02 seconds East 120.00 feet; (4) thence South 89 degrees 37 minutes 58 seconds East 5.00 feet; (5) thence North 00 degrees 22 minutes 02 seconds East 7.84 feet to the east right of way per previously mentioned Instrument number 1998-0020370 (the remaining two courses being along said east line; (1) thence North 10 degrees 15 minutes 51 seconds East 300.25 feet; (2) thence North 00 degrees 22 minutes 02 seconds East 221.37 feet to the Point of Beginning. Containing 24.468 acres, more or less.

South Option Parcel

Part of the Southwest Quarter of Section 13, Township 15 North, Range 2 East, in Marion County, Indiana, more particularly described as follows:

Commencing at the Northwest corner (IAA Monument 24-E) of the Northwest Quarter of said Section 24; thence North 88 degrees 49 minutes 54 seconds East (all bearings are based on the Indiana State Plane Coordinate System East Zone, NAD83) along the South line of the Southwest Quarter of said Section 13 a distance of 65.01 feet; thence North 00 degrees 22 minutes 02 seconds East parallel with the West line of the Southwest Quarter of said Section 13 a distance of 45.02 feet; thence South 88 degrees 49 minutes 54 seconds West parallel with the South line of said Southwest Quarter 35.00 feet to the Point of Beginning; thence continue North 00 degrees 22 minutes 02 seconds East parallel with the west line of the Southwest Quarter of said Section 13 a distance of 1029.39 feet; thence North 17 degrees 03 minutes 59 seconds East 52.20 feet; thence North 00 degrees 22 minutes 02 seconds East 225.57 feet to the South right of way of Minnesota Street per Indianapolis Department of Transportation plans for Project No. DOT (1.17B.36) ST-30-031 (phase 1 and 2) (the following five courses are along said South right of way); (1) thence North 45 degrees 21 minutes 00 seconds East 35.32 feet; (2) thence South 89 degrees 35 minutes 24 seconds East 622.19 feet to a tangent curve to the left having a radius of 355.00 feet, the radius point of which bears North 00 degrees 24 minutes 36 seconds East; (3) thence Easterly and Northerly along said curve 558.55 feet to a point which bears South 89 degrees 44 minutes 20 seconds East from said radius point; (4) thence North 00 degrees 15 minutes 40 seconds East 577.20 feet to a tangent curve to the right having a radius of 355.00 feet, the radius point of which bears South 89 degrees 44 minutes 20 seconds East; (5) thence Northerly and Easterly along said curve 497.28 feet to a point which bears North 09 degrees 28 minutes 48 seconds West from said radius point, said point lies on the West right of way line of Interstate 465 per INDOT plans for Project No. IM-465-4(355); thence South 00 degrees 14 minutes 24 seconds West along said West right of way line 2577.48 feet to a point located 45.00' north of the South line of the Southwest Quarter of said Section 13; thence South 88 degrees 49 minutes 54 seconds West parallel with the South line of said Southwest Quarter 1316.85 feet to the Point of Beginning. Containing 48.236 acres, more or less.

Issued in Des Plaines, Illinois, on November 15, 2018.
Rob Esquivel,
Acting Manager, Chicago Airports District Office, FAA, Great Lakes Region.

[FR Doc. 2018-25578 Filed 11-23-18; 8:45 am]

BILLING CODE 4910-13-P